DEPARTMENT OF DEFENSE

Office of the Secretary

[Docket ID DOD-2010-OS-0122]

Privacy Act of 1974; System of Records

AGENCY: National Security Agency/Central Security Service, DoD.

ACTION: Notice to amend a system of records.

SUMMARY: The National Security Agency/Central Security Service is proposing to amend a system of records notice in its existing inventory of records systems subject to the Privacy Act of 1974, (5 U.S.C. 552a), as amended.

DATES: The changes will be effective on October 15, 2010, unless comments are received that would result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill at (301) 688-6527.

SUPPLEMENTARY INFORMATION: The National Security Agency/Central Security Service systems of records notices subject to the Privacy Act of 1974, (5 U.S.C. 552a), as amended, have been published in the Federal Register and are available from the National Security Agency/Central Security Service, Freedom of Information Act and Privacy Act Office, 9800 Savage Road, Suite 6248, Ft. George G. Meade, MD 20755-6248.

The specific changes to the records system being amended are set forth below followed by the notice, as amended, published in its entirety. The proposed amendments are not within the purview of subsection (r) of the Privacy Act of 1974, (5 U.S.C. 552a), as amended, which requires the submission of a new or altered system report.

Dated: September 10, 2010.
Mitchell S. Bryman,
Alternate OSD Federal Register Liaison Officer, Department of Defense.

GNSA 24

System name:

NSA/CSS Pre-Publication Review Records. (February 13, 2008; 73 FR 8297).

Changes:

* * * * *

Categories of records in the system:

Delete entry and replace with “Individual's full name, home telephone number, address, employment history, and level of education (type of degree), case number, manuscripts and other writings submitted for pre-publication review, correspondence on pre-publication requests and appeals, and resumes.”

Authority for maintenance of the system:

Delete entry and replace with “National Security Agency Act of 1959, Public Law 86-36 (50 U.S.C. 402 note, National Security Council); 50 U.S.C. 403-1, Responsibilities and Authority of the Director National Intelligence; DoD Directive 5230.09, Clearance of DoD Information for Public Release; E.O. 12333, as amended, United States Intelligence Activities; E.O. 13526, Classified National Security Information; and NSA/CSS Policy 1-30, Review of NSA/CSS Information for Public Dissemination.”

* * * * *

Retrievability:

Delete entry and replace with “Individual's name, title of the pre-publication document, and the case number assigned to the pre-publication review request.”

* * * * *

System manager(s) and address:

Delete entry and replace with “Deputy Associate Director for Policy and Records, National Security Agency/Central Security Service, 9800 Savage Road, Ft. George G. Meade, MD 20755-6000.”

Notification procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, address and telephone number.”

Record access procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, address and telephone number.”

Contesting record procedures:

Delete entry and replace with “The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.”

* * * * *

GNSA 24

System name:

NSA/CSS Pre-Publication Review Records.

System location:

National Security Agency/Central Security Service, Ft. George G. Meade, MD 20755-6000.

Categories of individuals covered by the system:

Current and former NSA/CSS employee, advisor, military assignee, or Agency contractor; other authors obligated to submit writings or oral presentations for pre-publication review; and individuals involved in pre-publication review.

Categories of records in the system:

Individual's full name, home telephone number, address, employment history, and level of education (type of degree), case number, manuscripts and other writings submitted for pre-publication review, correspondence on pre-publication requests and appeals, and resumes.

Authority for maintenance of the system:

National Security Agency Act of 1959, Public Law 86-36 (50 U.S.C. 402 note, National Security Council); 50 U.S.C. 403-1, Responsibilities and Authority of the Director National Intelligence; DoD Directive 5230.09, Clearance of DoD Information for Public Release; E.O. 12333, as amended, United States Intelligence Activities; E.O. 13526, Classified National Security Information; and NSA/CSS Policy 1-30, Review of NSA/CSS Information for Public Dissemination.

Purpose(s):

To maintain records relating to the pre-publication review of official NSA/CSS information intended for public dissemination.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To Federal agencies involved in a classification review of information containing National Security Agency as well as other agency and/or government information.

The DoD ‘Blanket Routine Uses’ published at the beginning of the NSA/CSS's compilation of record systems also apply to this record system.

Policies and practices for storing, retrieving, accessing, retaining, and disposing of records in the system:

Storage:

Paper records in file folders and electronic media.

Retrievability:

Individual's name, title of the pre-publication document, and the case number assigned to the pre-publication review request.

Safeguards:

Secured by a series of guarded pedestrian gates and checkpoints. Access to facilities is limited to security-cleared personnel and escorted visitors only. With the facilities themselves, access to paper and computer printouts are controlled by limited-access facilities and lockable containers. Access to electronic means is controlled by computer password protection.

Retention and disposal:

Records are permanently retained and will be transferred to the NSA/CSS Archives when no longer needed for operations.

System manager(s) and address:

Deputy Associate Director for Policy and Records, National Security Agency/Central Security Service, 9800 Savage Road, Ft. George G. Meade, MD 20755-6000.

Notification procedure:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, address and telephone number.

Record access procedures:

Individuals seeking access to information about themselves contained in this system should address written inquiries to the National Security Agency/Central Security Service, Freedom of Information Act/Privacy Act Office, 9800 Savage Road, Suite 6248, Ft. George G. Meade, MD 20755-6248.

Written inquiries should contain the individual's full name, address and telephone number.

Contesting record procedures:

The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.

Record source categories:

Individuals and other NSA personnel involved in the publications review process.

Exemptions claimed for the system:

None.

[FR Doc. 2010-22969 Filed 9-14-10; 8:45 am]

BILLING CODE 5001-06-P